DEPARTMENT OF COMMERCE

National Oceanic and Atmospheric Administration

[RTID 0648-XA494]

Mid-Atlantic Fishery Management Council (MAFMC); Public Hearings

AGENCY: National Marine Fisheries Service (NMFS), National Oceanic and Atmospheric Administration (NOAA), Commerce.

ACTION: Notice of public hearings; request for comments.

SUMMARY: The Mid-Atlantic Fishery Management Council (Council) and the Atlantic States Marine Fisheries Commission (Commission) will hold seven public hearings via webinar and a written comment period to solicit public comments on a developing management action to consider potential changes to the allocation of the black sea bass commercial quota among the states of Maine through North Carolina.

DATES: The webinar hearings will be held between October 8 and 29, 2020. Each hearing will take place from 6 p.m. to 8 p.m. EDT. Written comments must be received on or before 11:59 p.m. EST, November 13, 2020. See SUPPLEMENTARY INFORMATION for more details, including the dates and times for all hearings.

ADDRESSES: All hearings will be hosted through GoToWebinar. You must use GoToWebinar to speak during the hearings. A listen-only call in option is also available. Participants will not be able to speak through the phone connection.

To access any of the webinar hearings, please follow the registration prompts at https://register.gotowebinar.com/rt/6029916789664773645. To attend the webinar in listen only mode without the ability to speak, you may dial (562) 247-8422 and enter access code 412-241-258.

A public hearing document with more information on this action is available at: http://www.mafmc.org/actions/bsb-commercial-allocation. Copies of the document are also available by request from Dr. Chris Moore, Executive Director, Mid-Atlantic Fishery Management Council, 800 N. State Street, Suite 201, Dover, DE 19901; telephone: (302) 674-2331.

Public comments: Written comments may be sent by any of the following methods:

• Email to: comments@asmfc.org (subject: Draft Addendum XXXIII).

• Via webform at: https://www.mafmc.org/comments/bsb-allocation.

• Mail to: Caitlin Starks, FMP Coordinator, Atlantic States Marine Fisheries Commission, 1050 North Highland Street, Suite 200 A-N, Arlington, VA 22201. Mark the outside of the envelope “Draft Addendum XXXIII.”

• Fax to: 703-842-0741 (subject: Draft Addendum XXXIII)

FOR FURTHER INFORMATION CONTACT: Christopher M. Moore, Ph.D., Executive Director, Mid-Atlantic Fishery Management Council, telephone: (302) 526-5255.

SUPPLEMENTARY INFORMATION: The Council and the Commission are developing a joint action to consider adjusting the allocations of the black sea bass commercial quota among states. These allocations were loosely based on landings data from 1980-2001. They were first implemented in 2003 and have not been modified since that time. They are currently included only in the Commission's fishery management plan and are not jointly managed with the Council. This joint action will consider whether modifications to these allocations should be made to account for changes in black sea bass distribution and abundance over time, as well as other considerations. It will also consider whether the allocations should be added to the Council's Fishery Management Plan.

Additional information on this action is available at: http://www.mafmc.org/actions/bsb-commercial-allocation.

The dates and times of the seven webinar hearings are listed below. You are encouraged to participate in the hearing for your state or region; however, all hearings are open to all individuals.

1. Virginia: Thursday, October 8, 2020; 6-8 p.m. EDT.

2. North Carolina: Tuesday, October 13, 2020; 6-8 p.m. EDT.

3. Delaware and Maryland: Wednesday, October 14, 2020; 6-8 p.m. EDT.

4. Connecticut and New York: Thursday, October 15, 2020; 6-8 p.m. EDT.

5. New Jersey: Tuesday, October 27, 2020; 6-8 p.m. EDT.

6. Rhode Island: Wednesday, October 28, 2020; 6-8 p.m. EDT.

7. Massachusetts: Thursday, October 29, 2020; 6-8 p.m. EDT.

Special Accommodations

These hearings are physically accessible to people with disabilities. Requests for sign language interpretation or other auxiliary aids should be directed to M. Jan Saunders at the Mid-Atlantic Council Office (302) 526-5251 at least 5 days prior to the hearing date.

Authority: 16 U.S.C. 1801 et seq.

Dated: September 16, 2020.
Tracey L. Thompson,
Acting Deputy Director, Office of Sustainable Fisheries, National Marine Fisheries Service.

[FR Doc. 2020-20779 Filed 9-18-20; 8:45 am]

BILLING CODE 3510-22-P